DEPARTMENT OF HOUSING AND URBAN DEVELOPMENT

[Docket No. FR-5121-N-17]

Notice of Proposed Information Collection: Comment Request Owner Certification with HUD Tenant Eligibility and Rent Procedures

AGENCY: Office of the Assistant Secretary for Housing—Federal Housing Commissioner, HUD.

ACTION: Notice.

SUMMARY: The proposed information collection requirement described below will be submitted to the Office of Management and Budget (OMB) for review, as required by the Paperwork Reduction Act. The Department is soliciting public comments on the subject proposal.

DATES: Comments Due Date: July 30, 2007.

ADDRESSES: Interested persons are invited to submit comments regarding this proposal. Comments should refer to the proposal by name and/or OMB Control Number and should be sent to: Lillian Deitzer, Reports Management Officer, Department of Housing and Urban Development, 451 7th Street, SW, Room 4178, Washington, DC 20410 or Lillian_L_Deitzer@hud.gov.

FOR FURTHER INFORMATION CONTACT: Gail Williamson, Director, Housing Assistance Policy Division, Office of Multifamily Housing, Department of Housing and Urban Development, 451 7th Street SW, Washington, DC 20410, telephone (202) 708-3300 ext. 2473 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Owner Certification with HUD Tenant Eligibility and Rent Procedures.

OMB Control Number, if applicable: 2502-0204.

Description of the need for the information and proposed use: This information is necessary to (1) determine an applicant's eligibility for admission and assistance, (2) recertify the households income and level of assistance at least annually to ensure accurate calculation of the tenant's rent and the amount of assistance HUD pays on behalf of the household (3) determine the continued eligibility of a household to receive assistance and (4) ensure that the owner make available all units under an assistance contract to eligible families unless HUD authorizes a waiver of the regulation(s).

Agency form numbers, if applicable: HUD-50059, HUD-27061, HUD-9887, HUD-9887-A

Estimation of the total numbers of hours needed to prepare the information collection including number of respondents, frequency of response, and hours of response: The number of burden hours is 2,199,569. The number of respondents is 1,888,272, the frequency of response varies and the burden hour per response is: 4 minutes to obtain signatures and gather and review documentation required by the Recertification Notice; 10 minutes to review policy, complete and sign the Sample Certification for Qualified Long-Term Care Insurance Expenses; 5 minutes for a college student's parents to complete a certification and declaration of their income and for owners to review to eligibility for Section 8 assistance; 8 minutes to obtain third party verifications to determine a college student's independence from parents; 3 minutes to obtain and analyze third party verification relative to a person's disability meeting the qualifications for the program covering the project where they are applying to live; 10 minutes to submit a request and supporting documentation to waive regulations governing eligibility requirements and for HUD or contract administrator to review and approve the request. There are no hours associated with signing lease agreements or completing the move-in/move-out inspection forms as these are standard business practices used by the rental housing industry.

Status of the proposed information collection: Currently approved.

Authority: The Paperwork Reduction Act of 1995, 44 U.S.C., Chapter 35, as amended.

Dated: May 18, 2007.
Frank L. Davis,
General Deputy Assistant Secretary for Housing-Deputy Federal Housing Commissioner.

[FR Doc. E7-10160 Filed 5-25-07; 8:45 am]

BILLING CODE 4210-67-P